DEPARTMENT OF COMMERCE

National Oceanic and Atmospheric Administration

RIN 0648-XD130

Pacific Fishery Management Council; Public Meeting

AGENCY: National Marine Fisheries Service (NMFS), National Oceanic and Atmospheric Administration (NOAA), Commerce.

ACTION: Notice of public meetings.

SUMMARY: The Pacific Fishery Management Council (Pacific Council) and its advisory entities will hold public meetings.

DATES: The Pacific Council and its advisory entities will meet March 7-13, 2014. The Pacific Council meeting will begin on Saturday, March 8, 2014 at 8 a.m., reconvening each day through Thursday, March 13, 2014. All meetings are open to the public, except a closed session will be held at 8 a.m. on Saturday, March 8 to address litigation and personnel matters. The Pacific Council will meet as late as necessary each day to complete its scheduled business.

ADDRESSES: The meetings of the Pacific Council and its advisory entities will be held at the Doubletree by Hilton Hotel, 2001 Point West Way, Sacramento, CA 95815; telephone: (916) 929-8855.

Council address: Pacific Fishery Management Council, 7700 NE Ambassador Place, Suite 101, Portland, OR 97220. Instructions for attending the meeting via live stream broadcast are given under SUPPLEMENTARY INFORMATION below.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The March 8-13, 2014 meeting of the Pacific Fishery Management Council will be streamed live on the internet. The live meeting will be broadcast daily starting at 8 a.m. Pacific Time (PT) beginning on Saturday, March 8, 2014 through Thursday, March 13, 2014. The broadcast will end daily at 6 p.m. PT or when business for the day is complete. Only the audio portion, and portions of the presentations displayed on the screen at the Council meeting, will be broadcast. The audio portion is listen-only; you will be unable to speak to the Council via the broadcast. Instructions to attend the broadcast meeting online are available on the Council Web site at http://www.pcouncil.org.

The following items are on the Pacific Council agenda, but not necessarily in this order.

A. Call to Order

1. Opening Remarks

2. Roll Call

3. Executive Director's Report

4. Approve Agenda

B. Open Comment Period

Comments on Non-Agenda Items

C. Ecosystem Management

California Current Ecosystem Report Including Integrated Ecosystem Assessment

D. Groundfish Management

1. National Marine Fisheries Service Report

2. Essential Fish Habitat (EFH) Phase 2 Report and Evaluation Criteria for Effectiveness of EFH Provisions

3. Barotrauma Device Mortality Rates

4. Inseason Adjustments, Including Carryover

5. Biennial Harvest Specifications for 2015-2016 and Beyond Groundfish Fisheries

6. Trawl Rationalization Trailing Actions

E. Habitat

Current Habitat Issues

F. Salmon Management

1. Review of 2013 Fisheries and Summary of 2014 Stock Abundance Forecasts

2. Identification of Management Objectives and Preliminary Definition of 2014 Salmon Management Alternatives

3. National Marine Fisheries Service Report

4. Council Recommendations for 2014 Management Alternative Analysis

5. Further Council Direction for 2014 Management Alternatives

6. Adoption of 2014 Management Alternatives for Public Review

7. Salmon Hearings Officers

8. Sacramento Winter Chinook Harvest Control Rule

9. California Coastal Chinook Update

G. Pacific Halibut Management

1. Report on the International Pacific Halibut Commission (IPHC) Meeting

2. Incidental Catch Recommendations for the Salmon Troll and Fixed Gear Sablefish Fisheries

H. Enforcement Issues

Vessel Monitoring System Ping Rate

I. Coastal Pelagic Species Management

Pacific Sardine Temperature Parameter Review

J. Administrative Matters

1. Magnuson-Stevens Act Reauthorization Priorities and Other Legislative Matters

2. Approval of Council Meeting Minutes

3. Membership Appointments and Council Operating Procedures

4. Future Council Meeting Agenda and Workload Planning

K. Highly Migratory Species Management

1. National Marine Fisheries Service Report

2. Vessel Monitoring Systems for Highly Migratory Species Fisheries

3. Recommendations for International Management Activities

4. U.S.-Canada Albacore Treaty Update

5. Draft Gillnet Monitoring Management and Alternative Gear Report

Schedule of Ancillary Meetings

Day 1—Friday, March 7, 2014

Scientific and Statistical Committee Groundfish Subcommittee—8 a.m.

Groundfish Management Team—8 a.m.

Groundfish Advisory Subpanel—8 a.m.

Habitat Committee—8:30 a.m.

Legislative Committee—1 p.m.

Day 2—Saturday, March 8, 2014

California State Delegation—7 a.m.

Oregon State Delegation—7 a.m.

Washington State Delegation—7 a.m.

Groundfish Advisory Subpanel—8 a.m.

Groundfish Management Team—8 a.m.

Scientific and Statistical Committee—8 a.m.

Salmon Advisory Subpanel—8 a.m.

Salmon Technical Team—8 a.m.

Chair's Reception—6 p.m.

Enforcement Consultants—As Needed

Tribal Policy Group—As Needed

Tribal and Washington Technical Group—As Needed

Day 3—Sunday, March 9, 2014

California State Delegation—7 a.m.

Oregon State Delegation—7 a.m.

Washington State Delegation—7 a.m.

Groundfish Management Team—8 a.m.

Groundfish Advisory Subpanel—8 a.m.

Salmon Advisory Subpanel—8 a.m.

Salmon Technical Team—8 a.m.

Enforcement Consultants—4 p.m.

Tribal Policy Group—As Needed

Tribal and Washington Technical Group—As Needed

Day 4—Monday, March 10, 2014

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Salmon Advisory Subpanel—8 a.m.

Salmon Technical Team—8 a.m.

Enforcement Consultants—As Needed

Tribal Policy Group—As Needed

Tribal and Washington Technical Group—As Needed

Day 5—Tuesday, March 11, 2014

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Salmon Advisory Subpanel—8 a.m.

Salmon Technical Team—8 a.m.

Enforcement Consultants—As Needed

Tribal Policy Group—As Needed

Tribal and Washington Technical Group—As Needed

Day 6—Wednesday, March 12, 2014

California State Delegation—7 a.m.

Oregon State Delegation—7 a.m.

Washington State Delegation—7 a.m.

Highly Migratory Species Advisory Subpanel—8 a.m.

Highly Migratory Species Management Team—8 a.m.

Salmon Advisory Subpanel—8 a.m.

Salmon Technical Team—8 a.m.

Enforcement Consultants—As Needed

Tribal Policy Group—As Needed

Tribal and Washington Technical Group—As Needed

Day 7—Thursday, March 13, 2014

California State Delegation—7 a.m.

Oregon State Delegation—7 a.m.

Washington State Delegation—7 a.m.

Salmon Technical Team—8 a.m.

Enforcement Consultants—As Needed

Tribal Policy Group—As Needed

Tribal and Washington Technical Group—As Needed

Although non-emergency issues not contained in this agenda may come before this Council for discussion, those issues may not be the subject of formal Council action during these meetings. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: February 11, 2014.
Tracey L. Thompson,
Acting Deputy Director, Office of Sustainable Fisheries, National Marine Fisheries Service.

[FR Doc. 2014-03304 Filed 2-13-14; 8:45 am]

BILLING CODE 3510-22-P